DEPARTMENT OF THE TREASURY

Fiscal Service

Fee Schedule for the Transfer of U.S. Treasury Book-Entry Securities Held on the National Book-Entry System

AGENCY: Bureau of the Public Debt, Fiscal Service, Department of the Treasury.

ACTION: Notice.

SUMMARY: The Department of the Treasury is announcing a new fee schedule for the transfer of book-entry securities maintained on the National Book-Entry System (NBES). This fee schedule will take effect on January 2, 2001. Based on the latest review of costs, the new basic fee for a Treasury book-entry security transfer will be reduced $.02 for each transfer. Concurrent with Treasury's fee reduction, the Federal Reserve will be increasing the fee for the movement of funds by $.02. These changes will result in the combined fee for a Treasury security transfer of $.70. The combined fee is unchanged from CY 2000.

In addition to the basic fee, off-line transfers have a surcharge. The surcharge for an off-line Treasury book-entry transfer will be $25.00, increasing $7.00 or 39%.

EFFECTIVE DATE: January 2, 2001.

FOR FURTHER INFORMATION CONTACT: Edward C. Leithead, Director, Primary & Secondary Market Fixed Income Securities (Financing), Bureau of the Public Debt, Suite 3014, 26 Federal Plaza, New York, NY 10278, telephone (212) 264-6358.

Diane M. Polowczuk, Government Securities Specialist (Financing), Bureau of the Public Debt, Room 510, 999 E Street NW., Washington, DC 20239-0001, telephone (202) 691-3550.

SUPPLEMENTARY INFORMATION: On October 1, 1985, the Department of the Treasury established a fee structure for the transfer of Treasury book-entry securities maintained on NBES.

Based on the latest review of book-entry costs and volumes, Treasury will decrease its basic fee and increase the off-line surcharge from the levels currently in effect. Beginning January 2, 2001, the basic fee will be $.63 for each securities transfer and reversal sent and received, a 3% fee reduction per transfer. The current off-line surcharge of $18.00 will increase to $25.00, a 39% increase.

The basic transfer fee assessed to both sends and receives reflects stability of costs associated with the processing of a security transfer. The increased off-line surcharge reflects the additional costs associated with the processing of off-line security transfers.

The Treasury does not charge a fee for account maintenance, the stripping and reconstituting of Treasury securities, or for wires associated with original issues, or interest and redemption payments. The Treasury currently absorbs these costs and will continue to do so.

The fees described in this notice apply only to the transfer of Treasury book-entry securities held on NBES. The Federal Reserve System assesses a fee to recover the costs associated with the processing of the funds component of Treasury book-entry transfer messages, as well as the costs of providing book-entry services for Government agencies on NBES. Information concerning book-entry transfers of government agency securities, which are priced by the Federal Reserve System, is set out in a separate Federal Register notice published by the Board of Governors of the Federal Reserve System elsewhere in this issue of the Federal Register.

The following is the Treasury fee schedule that will take effect on January 2, 2001, for the book-entry transfers on NBES:

Treasury-NBES Fee Schedule ¹ Effective January 2, 2001
[In Dollars]
Transfer type | Basic fee | Off-line surcharge | Funds ² movement fee | Total fee
On-line transfer originated | .63 | .00 | .07 | .70
On-line transfer received | .63 | .00 | .07 | .70
On-line reversal transfer originated | .63 | .00 | .07 | .70
On-line reversal transfer received | .63 | .00 | .07 | .70
Off-line transfer originated | .63 | 25.00 | .07 | 25.70
Off-line transfer received | .63 | 25.00 | .07 | 25.70
Off-line account switch received | .63 | .00 | .07 | .70
Off-line reversal transfer originated | .63 | 25.00 | .07 | 25.70
Off-line reversal transfer received | .63 | 25.00 | .07 | 25.70
¹ The Treasury does not charge a fee for account maintenance, the stripping and reconstituting of Treasury securities, or the wires associated with original issues, or interest and redemption payments. The Treasury currently absorbs these costs and will continue to do so.
² The funds movement fee is not a Treasury fee, but is charged by the Federal Reserve for the cost of moving funds associated with the transfer of a Treasury book-entry security.

Authority: 31 CFR 357.45

Dated: November 9, 2000.
Donald V. Hammond,
Fiscal Assistant Secretary.

[FR Doc. 00-29385 Filed 11-16-00; 8:45 am]

BILLING CODE 4810-35-P